DEPARTMENT OF HOUSING AND URBAN DEVELOPMENT

[Docket No. FR-6003-N-06]

60-Day Notice of Proposed Information Collection: Family Self-Sufficiency Program Demonstration

AGENCY: Office of Policy Development and Research, HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: September 12, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION, CONTACT: Anna P. Guido, Reports Management Officer, QDAM, Department of Housing and Urban Development, 451 7th Street SW., Washington, DC 20410; email Anna P. Guido at Anna.P.Guido@hud.gov or telephone (202) 402-5535 (this is not a toll-free number). Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

A. Overview of Information Collection

Title of Information Collection: The Family Self-Sufficiency Demonstration.

OMB Approval Number: 2528-0296.

Description of the need for the information and proposed use: The Department is conducting this study under contract with MDRC and its subcontractor (M. Davis and Company, Inc.) and consultants. The project is an evaluation of the Family Self-Sufficiency (FSS) Program operated at Public Housing Agencies (PHAs) across the U.S. The study will use random assignment methods to evaluate the effectiveness of the program. FSS has operated since 1992 and serves voucher holders and residents of public housing. The FSS model is essentially case management plus an escrow account. FSS case managers create a plan with families to achieve goals and connect with services that will enhance their employment opportunities. Families accrue money in their escrow accounts as they increase their earnings.

To date, HUD has funded two other studies of the FSS program, but neither can tell us how well families would have done in the absence of the program. A random assignment model is needed because participant self-selection into FSS limits the ability to know whether program features rather than the characteristics of the participating families caused tenant income gains. Random assignment will limit the extent to which selection bias is driving observed results.

The demonstration underway will document the progress of a group of FSS participants from initial enrollment to program completion (or exit). The intent is to gain a deeper understanding of the program and illustrate strategies that assist participants to obtain greater economic independence. While the main objective of FSS is stable, suitable employment, there are many interim outcomes of interest, which include: getting a first job; getting a higher paying job; self-employment/small business ownership; no longer needing benefits provided under one or more welfare programs; obtaining additional education, whether in the form of a high school diploma, higher education degree, or vocational training; buying a home; buying a car; setting up savings accounts; or accomplishing similar goals that lead to economic independence.

Data for this evaluation are being gathered through a variety of methods including informational interviews and discussions, direct observation, and focus groups. The work covered under this information request is for interviews with PHA staff, partners, and study participants receiving FSS services.

Type of Request: Revision of a currently approved collection.

Agency Form Numbers: No agency forms will be used. The quarterly reporting will be accomplished through a short narrative report.

Respondents: 180 Respondents in all.

Members of Affected Public: 90.

Estimated Number of Respondents: 180.

Frequency of response: Once.

Hours of response: 90 minutes.

Estimated Total Annual Burden Hours: 279 hours.

Estimated Total Annual Cost: $4,325.94.

PHA and Partner Staff: 90

Individuals receiving subsidized housing and enrolled in the FSS program (treatment group): 90.

Information collection | Number of respondents | Frequency of response | Responses per annum | Burden hour per response | Annual burden hours | Hourly cost per response | Annual cost
Study Participant Interviews and/or Focus Groups | 90 participants (10 participants * 9 sites) | Once | One | 90 minutes, on average (1.5 hours) | 135 hours (90 * 1.5) | ¹ $7.25 | $489.38 (45 employed sample members * $7.25* 1.5 hours).
PHA Staff Interviews (on-site) | 27 staff (3 staff * 9 sites) | Once | One | 90 minutes, on average (1.5 hours) | 40.5 hours (27 * 1.5) | ² 24.33 | $985.40 (27 staff * $24.33* 1.5 hours).
PHA Staff Interviews (telephone) | 18 staff (2 staff * 9 sites) | Once | One | 90 minutes, on average (1.5 hours) | 27 hours (18 * 1.5) | ² 24.33 | $656.91 (18 staff * $24.33 * 1.5 hours).
Cost Study Data Collection Activities with PHA staff | 18 staff (1 staff * 18 sites) | Once | One | 120 minutes, on average (or 2 hours) | 36 hours (18 staff * 2) | 33.58 | $1208.88 (18 staff * $33.58 * 2 hours).
FSS Partner Staff Interviews | 27 staff (1 staff * 3 partners * 9 sites) | Once | One | 90 minutes, on average (1.5 hours) | 40.5 hours (27 * 1.50) | 33.58 | $985.36 (27 staff * $24.33* 1.5 hours).
Total | 180 |  |  |  | 279 |  | $4,325.94
¹ Households participating in the Family Self-Sufficiency Demonstration will range widely in employment position and earnings. We have estimated the hourly wage at the expected prevailing minimum wage, which is $7.25 per hour. We expect about 50 percent of the participants to be employed at the time of study entry. A recent report by the Center on Budget and Policy Priorities, some 55 percent of non-elderly, non-disabled households receiving voucher assistance reported earned income in 2010. The typical (median) annual earnings for these families were $15,600, only slightly more than the pay from full-time, year-round minimum-wage work. (http://www.cbpp.org/cms/?fa=view&id=3634). Based on this, we assumed 50% of participants would be working at the federal minimum wage.
² For program staff participating in interviews, the estimate uses the median hourly wages of selected occupations (classified by Standard Occupational Classification (SOC) codes) was sourced from the Occupational Employment Statistics from the U.S. Department of Labor's Bureau of Labor Statistics. Potentially relevant occupations and their median hourly wages are:

Occupation | SOC code | Median hourly wage rate
Community and Social Service Specialist | 21-1099 | $19.26
Social/community Service Manager | 11-9151 | 29.40
Source: Occupational Employment Statistics, accessed online March 20, 2015 at http://www.bls.gov/oes/current/oes_stru.htm.
To estimate cost burden to program staff respondents, we use an average of the occupations listed, or $24.33/hr.
⁴ For program staff supporting data extraction activities and FSS Partner staff, the estimate uses the median hourly wages of selected relevant occupations in a manner similar to the above. A standard wage assumption of $33.58/hr. was created by averaging median hourly wage rates for these occupations:

Occupation | SOC code | Median hourly wage rate
Database Administrator | 15-1141 | $37.75
Social/community Service Manager | 11-9151 | 29.40
Source: Occupational Employment Statistics, accessed online March 22, 2015 at http://www.bls.gov/oes/current/oes_stru.htm.

B. Solicitation of Public Comment

This notice is soliciting comments from members of the public and affected parties concerning the collection of information described in Section A on the following:

(1) Whether the proposed collection of information is necessary for the proper performance of

the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses.

HUD encourages interested parties to submit comment in response to these questions.

Authority: Section 3507 of the Paperwork Reduction Act of 1995, 44 U.S.C. Chapter 35.

Dated: July 7, 2017.
Matthew E. Ammon,
General Deputy Assistant, Secretary for Policy Development and Research.

[FR Doc. 2017-14811 Filed 7-13-17; 8:45 am]

BILLING CODE 4210-67-P